DEPARTMENT OF COMMERCE

Patent and Trademark Office

Submission for OMB Review; Comment Request; “Post Registration (Trademark Processing)”

The United States Patent and Trademark Office (USPTO) will submit to the Office of Management and Budget (OMB) for clearance the following proposal for collection of information under the provisions of the Paperwork Reduction Act (44 U.S.C. chapter 35).

Agency: United States Patent and Trademark Office, Commerce.

Title: Post Registration (Trademark Processing).

OMB Control Number: 0651-0055.

Form Number(s):

• PTO Form 1563

• PTO Form 1573

• PTO Form 1583

• PTO Form 1597

• PTO Form 1963

• PTO Global Form

Type of Request: Regular.

Number of Respondents: 185,047 responses per year. Of this total, the USPTO expects that 175,846 responses will be submitted through TEAS and 9,201 will be submitted on paper.

Average Hours Per Response: The USPTO estimates that it will take approximately 5 minutes (0.08 hours) to 35 minutes (0.58 hours) to complete a single item in this collection, depending on the instrument used. This includes the time to gather the necessary information, create the documents, and submit the completed request to the USPTO.

Burden Hours: 43,095.72 hours.

Cost Burden: $54,392,518.33.

Needs and Uses:

The United States Patent and Trademark Office (USPTO) administers the Trademark Act, 15 U.S.C. 1051 et seq., which provides for the Federal registration of trademarks, service marks, collective trademarks and service marks, collective membership marks, and certification marks. Individuals and businesses that use or intend to use such marks in commerce may file an application to register their marks with the USPTO.

Such individuals and businesses may also submit various communications to the USPTO, including requests to amend their registrations to delete goods or services that are no longer being used by the registrant. Registered marks remain on the register for ten years and can be renewed, but will be cancelled unless the owner files with the USPTO a declaration attesting to the continued use (or excusable non-use) of the mark in commerce, and a renewal application, within specific deadlines. Applicants may also request to amend or divide a registration, respond to a post-registration Office action, and surrender a registration.

The rules implementing the Act are set forth in 37 CFR part 2. These rules mandate that each register entry include the mark, the goods and/or services in connection with which the mark is used, ownership information, dates of use, and certain other information. The USPTO also provides similar information concerning pending applications. The register and pending application information may be accessed by an individual or by businesses to determine the availability of a mark. By accessing the USPTO's information, parties may reduce the possibility of initiating use of a mark previously adopted by another. Thus, the Federal trademark registration process may reduce unnecessary litigation and its accompanying costs and burdens.

Affected Public: Individuals or households; businesses or other for-profit institutions, and not-for-profit institutions.

Frequency: On occasion.

Respondent's Obligation: Required to Obtain or Retain Benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0055 copy request” in the subject line of the message.

• Mail: Marcie Lovett, Records Management Division Director, Office of the Chief Information Officer, United States Patent and Trademark Office, P.O. Box 1450, Alexandria, VA 22313-1450.

Written comments and recommendations for the proposed information collection should be sent on or before July 9, 2015 to Nicholas A. Fraser, OMB Desk Officer, via email to Nicholas_A._Fraser@omb.eop.gov, or by fax to 202 395-5167, marked to the attention of Nicholas A. Fraser.

Dated: June 1, 2015.
Marcie Lovett,
Records Management Division Director, USPTO, Office of the Chief Information Officer.

[FR Doc. 2015-14085 Filed 6-8-15; 8:45 am]

BILLING CODE 3510-16-P